SMALL BUSINESS ADMINISTRATION

[License No. 02/02-0641]

Cephas Capital Partners II, L.P.; Surrender of License of Small Business Investment Company

Pursuant to the authority granted to the United States Small Business Administration under the Small Business Investment Act of 1958, as amended, under section 309 of the Act and Code of Federal Regulations under 13 CFR 107.1900 to function as a small business investment company under the Small Business Investment Company License No. 02/02-0641 issued to Cephas Capital Partners II, L.P., said license is hereby declared null and void.

Bailey Devries,
Associate Administrator, Office of Investment and Innovation, United States Small Business Administration.

[FR Doc. 2023-23347 Filed 10-20-23; 8:45 am]

BILLING CODE